DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 15, 2006.

Interested persons are invited to submit written comments regarding the subject matter of the investigations to the Director, Division of Trade Adjustment Assistance, at the address shown below, not later than May 15, 2006.

The petitions filed in this case are available for inspection at the Office of the Director, Division of Trade Adjustment Assistance, Employment and Training Administration, U.S. Department of Labor, Room C-5311, 200 Constitution Avenue, NW., Washington, DC 20210.

Signed at Washington, DC this 26th day of April 2006.
Erica R. Cantor,
Director, Division of Trade Adjustment Assistance.

Appendix
[TAA Petitions Instituted Between 4/17/06 and 4/21/06]
TA-W | Subject firm (petitioners) | Location | Date of institution | Date of petition
59220 | First Choice Staff, Inc. (State) | Irvine, CA | 04/17/06 | 04/14/06
59221 | Moore Wallace (Comp) | Libertyville, IL | 04/17/06 | 04/10/06
59222 | Unilever Best Foods, Inc. (State) | Merced, CA | 04/17/06 | 04/14/06
59223 | General Motors Corp. (Wkrs) | Warren, MI | 04/17/06 | 04/03/06
59224 | Lear Corporation (UAW) | Elsie, MI | 04/17/06 | 04/13/06
59225 | Cigna Healthcare (Wkrs) | Columbus, OH | 04/17/06 | 04/17/06
59226 | Werner Co. (Comp) | Anniston, AL | 04/17/06 | 04/17/06
59227 | York Group, Inc. (The) (Wkrs) | Marshfield, MO | 04/18/06 | 04/17/06
59228 | North American Communications (Wkrs) | Duncansville, PA | 04/18/06 | 04/10/06
59229 | Master Products (State) | Wabash, IN | 04/18/06 | 04/17/06
59230 | Stolt Sea Farm (State) | Stratford, CT | 04/18/06 | 04/17/06
59231 | Waterbury Rolling Mills Olin Corporation (Comp) | Waterbury, CT | 04/18/06 | 04/17/06
59232 | McGehee Industries (State) | McGehee, AR | 04/18/06 | 04/17/06
59233 | 3D Materials Handling, LLC (Comp) | Gorham, NH | 04/18/06 | 04/17/06
59234 | Swift Galey (Wkrs) | Columbus, GA | 04/18/06 | 04/09/06
59235 | Oakwood International (Wkrs) | Granger, IN | 04/18/06 | 04/12/06
59236 | Delta Technical Coatings, Inc. (Wkrs) | Whittier, CA | 04/18/06 | 04/14/06
59237 | Easton Sports, Inc. (State) | Van Nuys, CA | 04/18/06 | 04/14/06
59238 | Nashua Corporation (Wkrs) | Jeferson City, TN | 04/18/06 | 04/17/06
59239 | ReadyHosting, Inc. (Wkrs) | Kenosha, WI | 04/18/06 | 04/12/06
59240 | Coleman Cable, Inc. (Comp) | Miami Lakes, FL | 04/19/06 | 04/18/06
59241 | Eagle Picher (State) | Jonesville, MI | 04/19/06 | 04/12/06
59242 | Yale Industries (State) | Yale, MI | 04/19/06 | 04/13/06
59243 | Tenneco (Comp) | Sterling Heights, MI | 04/19/06 | 04/18/06
59244 | Convatec-A Bristol Myers Squibb Co. (Wkrs) | Greensboro, NC | 04/19/06 | 04/19/06
59245 | Securitas Security Service (State) | Omaha, NE | 04/19/06 | 04/18/06
59246 | Newco Fibre Company (Comp) | Charlotte, NC | 04/20/06 | 04/05/06
59247 | Saint-Gobain Ceramics (Comp) | East Granby, CT | 04/20/06 | 04/19/06
59248 | Kimberly-Clark (Comp) | Neenah, WI | 04/20/06 | 04/18/06
59249 | New Breed Corp. (Wkrs) | Danville, KY | 04/20/06 | 04/17/06
59250 | Kodak Graphics Solutions and Services (Wkrs) | Kearneysville, WV | 04/20/06 | 04/19/06
59251 | Steed Sales Co., Inc. (Comp) | Bowdon, GA | 04/20/06 | 04/19/06
59252 | True North Foods, US Inc. (Wkrs) | Stratford, CT | 04/20/06 | 04/19/06
59253 | Universal Mfg. Corp. (Comp) | Shelby, NC | 04/20/06 | 04/20/06
59254 | Layman Lumber Co., Inc. (Comp) | Naches, WA | 04/20/06 | 04/19/06
59255 | Regal Manufacturing Co., Inc. (Comp) | Hickory, NC | 04/21/06 | 04/06/06
59256 | Caraustar Industries, Inc. (Comp) | Blairs, VA | 04/21/06 | 04/20/06
59257 | Systems West (Comp) | Oakbrook, IL | 04/21/06 | 04/20/06
59258 | Johnson Controls, Inc. (State) | Holland, MI | 04/21/06 | 04/20/06
59259 | Nautilus, Inc. (State) | Tyler, TX | 04/21/06 | 04/20/06
59260 | Capital City Press, Inc. (Comp) | Montpelier, VT | 04/21/06 | 04/14/06
59261 | Gould Packaging, Inc. (Wkrs) | Dekalb, IL | 04/21/06 | 04/20/06
59262 | Nokia Enterprise Solutions (Wkrs) | Irving, TX | 04/21/06 | 04/10/06
59263 | A-Bust Tool and Mfg. Co., Inc. (Wkrs) | Hammond, IN | 04/21/06 | 04/21/06
59264 | Johnson Diversey (Wkrs) | E. Stroudsburg, PA | 04/21/06 | 04/15/06

[FR Doc. E6-6856 Filed 5-4-06; 8:45 am]

BILLING CODE 4510-30-P